DEPARTMENT OF JUSTICE

[AAG/A Order No. 262-2002]

Privacy Act of 1974; System of Records

Pursuant to the Privacy Act of 1974 (5 U.S.C. 552a), notice is given that the Federal Bureau of Prisons (Bureau) proposes to establish a new system of records entitled, “Outside Employment Requests Record System, (JUSTICE/BOP-015).” This system, which will become effective June 7, 2002, is being established to assist staff in tracking approved and disapproved requests for outside employment by Bureau employees, including professional staff, e.g. attorneys, doctors, psychiatrists, chaplains and architects.

Title 5 U.S.C. 552a(e)(4) and (11) provide that the public be provided a 30-day period in which to comment. The Office of Management and Budget (OMB), which has oversight responsibilities under the Privacy Act, requires that it be given a 40-day period in which to review the system.

Therefore, please submit any comments by May 8, 2002. The public, OMB, and the Congress are invited to send written comments to Mary Cahill, Management and Planning Staff, Justice Management Division, Department of Justice, Washington, DC 20530 (1400 National Place Building).

A description of the system of records is provided below. In addition, the Department of Justice has provided a report to OMB and the Congress in accordance with 5 U.S.C. 552a(r).

Dated: March 28, 2002.
Robert F. Diegelman,
Acting Assistant Attorney General for Administration.

JUSTICE/BOP-015

System Name:

Outside Employment Requests Record System.

System Location:

Records may be retained at the Central Office, Regional Offices, and/or at any of the Federal Bureau of Prisons (Bureau) facilities. A list of these system locations may be found at 28 CFR part 503 and on the Internet at http://www.bop.gov.

Categories of Individuals Covered by the System:

Current and former Bureau employees, including the following professionals: attorneys, doctors, psychiatrists, chaplains and architects, who request approval for outside employment.

Categories of Records in the System:

Submitted requests for permission to be employed outside the Bureau; staff notes, correspondence and/or memoranda concerning the processing of these requests; approved/disapproved requests signed by appropriate Bureau officials; identifying data of intended employers, including name, address, telephone number, point of contact; identifying data of Bureau employee, including name, duty location, address, telephone number, and system-generated number.

Authority for Maintenance of the System:

This system is established and maintained under the authority of 5 CFR part 3801.106.

Purpose(s):

The purpose of this system is to track approved and disapproved requests by Bureau employees for outside employment, including the following professions: attorneys, doctors, psychiatrists, chaplains and architects.

Routine Uses of Records Maintained in the System, Including Categories of Users and the Purposes of Such Uses:

In addition to Bureau employees who have a need for the information in the course of their duties, relevant data from this system will be disclosed as follows:

(a) to federal, state, local, tribal, foreign and international law enforcement agencies and officials for law enforcement purposes such as investigations, possible criminal prosecutions, civil court actions, and/or regulatory proceedings;

(b) to a court or adjudicative body before which the Department of Justice or the Bureau is authorized to appear when any of the following is a party to litigation or has an interest in litigation and such records are determined by the Bureau to be arguably relevant to the litigation; (1) the Bureau, or any subdivision thereof, or (2) any Department or Bureau employee in his or her official capacity, or (3) any Department or Bureau employee in his or her individual capacity where the Department has agreed to provide representation for the employee, or (4) the United States, where the Bureau determines that the litigation is likely to affect it or any of its subdivisions;

(c) in an appropriate proceeding before a court or administrative or regulatory body when records are determined by the Department of Justice to be arguably relevant to the proceeding, including federal, state, and local licensing agencies or associations which require information concerning the suitability or eligibility of an individual for a license or permit;

(d) to a Member of Congress or staff acting upon the Member's behalf when the Member or staff requests the information on behalf of and at the request of the individual who is the subject of the record;

(e) to the National Archives and Records Administration and General Services Administration in records management inspections conducted under the authority of 44 U.S.C. 2904 and 2906.

(f) to contractors, grantees, experts, consultants, students, and others performing or working on a contract, service, grant, cooperative agreement, or other assignment for the federal government, when necessary to accomplish an agency function related to this system of records; and

(g) pursuant to subsection (b)(3) of the Privacy Act, the Department of Justice may disclose relevant and necessary information to a former employee of the Department for purposes of: responding to an official inquiry by a federal, state, or local government entity or professional licensing authority, in accordance with applicable Department regulations; or facilitating communications with a former employee that may be necessary for personnel-related or other official purposes where the Department requires information and/or consultation assistance from the former employee regarding a matter within that person's former area of responsibility.

Policies and Practices for Storing, Retrieving, Accessing, Retaining, and Disposing of Records in the System:

Storage:

Information maintained in the system is stored in electronic media in Bureau facilities via a configuration of personal computer, client/server, and mainframe systems architecture. Computerized records are maintained on hard disk, floppy diskettes, compact discs (CDs), magnetic tapes and/or optical disks. Documentary records are maintained in manual file folders and/or index card files.

Retrievability:

Documentary records are sorted by year, and then filed alphabetically by the subject's last name. Computerized data is retrievable by the fields entered into the data-base, including name, duty location, date, region, and the system-generated number.

Safeguards:

Information is safeguarded in accordance with Bureau rules and policy governing automated information systems security and access. These safeguards include the maintenance of records and technical equipment in restricted areas, and the required use of proper passwords and user identification codes to access the system. Only those Bureau personnel who require access to perform their official duties may access the system equipment and the information in the system.

Retention and DIsposal:

Records are reviewed every two years and are retained for seven (7) years from the date of the approval/disapproval of the request. Documentary records are destroyed by shredding and electronic records are destroyed by either erasing or degaussing.

System Manager(s) and Address:

Assistant Directory/General Counsel, Office of General Counsel, Federal Bureau of Prisons, 320 First Street NW, Washington, D.C. 20534.

Notification Procedure:

Inquiries concerning this system should be directed to the System Manager listed above.

Record Access Procedures:

All requests for records may be made in writing to the Director, Federal Bureau of Prisons, 320 First Street NW, Washington, D.C. 20534, and should be clearly marked “Privacy Act Request.”

Contesting Record Procedures:

Same as above.

Record Source Categories:

Records are generated by Bureau employees who submit requests for permission to be employed outside the Bureau, by Bureau staff involved in the processing of these requests, and by intended employers.

Systems Exempted From Certain Provisions of the Act:

None.

[FR Doc. 02-8426 Filed 4-5-02; 8:45 am]

BILLING CODE 4410-05-P